DEPARTMENT OF COMMERCE

Patent and Trademark Office

Meeting of the Public Advisory Committee for Trademark Affairs

AGENCY: Patent and Trademark Office, Commerce.

ACTION: Notice of meeting.

SUMMARY: The Patent and Trademark Office is announcing, in accordance with Section 10(a)(2) of the Federal Advisory Committee Act (Public Law 92-463), an open meeting of the Public Advisory Committee for Trademark Affairs.

DATES: The meeting will be held from 10:00 a.m. until 4:00 p.m. on Friday, February 4, 2000.

ADDRESSES: The meeting will take place at the U.S. Patent and Trademark Office, Commissioner's Conference Room, 9th floor, Crystal Park 2, 2121 Crystal Drive, Arlington, Virginia 22202.

FOR MORE INFORMATION CONTACT: Sharon Marsh by mail marked to her attention and addressed to Office of the Assistant Commissioner for Trademarks, Patent and Trademark Office, 2900 Crystal Drive, South Tower Building, Suite 10B10, Arlington, VA 22202-3513; by telephone at (703) 308-9100, extension 45; by fax at (703) 308-9395; or by e-mail to sharon.marsh@uspto.gov.

SUPPLEMENTARY INFORMATION: The meeting will be open to public observation. Accordingly, seating will be available to members of the public on a first-come-first-served basis. Members of the public will be permitted to make oral comments of three (3) minutes each. Written comments and suggestions will be accepted before or after the meeting on any of the matters discussed. Copies of the minutes will be available upon request. The agenda for the meeting will be the implementation of the Patent and Trademark Office Efficiency Act (Pub. L. 106-113, Title VI, Subtitle G).

Dated: January 11, 2000.
Q. Todd Dickinson,
Assistant Secretary of Commerce and Commissioner of Patents and Trademarks.

[FR Doc. 00-1047 Filed 1-14-00; 8:45 am]

BILLING CODE 3520-16-U